CIVIL RIGHTS COMMISSION

Sunshine Act Meeting Notice

AGENCY: United States Commission on Civil Rights.

ACTION: Notice of Commission Public Briefing, Women in Prison: Seeking Justice Behind Bars.

DATES: Friday, February 22, 2019, 9:00 a.m. ET.

ADDRESSES: Place: National Place Building, 1331 Pennsylvania Ave. NW, 11th Floor, Suite 1150, Washington, DC 20245 (Entrance on F Street NW).

FOR FURTHER INFORMATION CONTACT: Brian Walch, (202) 376-8371; TTY: (202) 376-8116; publicaffairs@usccr.gov.

SUPPLEMENTARY INFORMATION: The U.S. Commission on Civil Rights will hold a public briefing to evaluate the civil rights of women in prison, including deprivations of women's medical needs that may violate the constitutional requirement to provide adequate medical care for all prisoners; implementation of the Prison Rape Elimination Act; and the sufficiency of programs to meet women's needs after release. The Commission will also examine consequences of discipline practices in women's prisons and the impact on families when women are placed far from home or parental rights are terminated despite their caregiving role. Commissioners will hear from state and federal corrections officials, women who have experienced incarceration, academic and legal experts, and advocates. Members of the public will be able to address the Commission in an open comment session (see below).

This briefing is open to the public; doors open at 8:30 a.m. ET. The event will also live-stream at https://www.youtube.com/user/USCCR/videos. (Streaming information subject to change.) If attending in person, we ask that you RSVP to publicaffairs@usccr.gov. Persons with disabilities who need accommodation should contact Pamela Dunston at 202-376-8105 or at access@usccr.gov at least seven (7) business days before the date of the meeting.

We will offer an open comment session in which members of the public will be able to address the Commission. Detailed information on this open comment session, including details on how to register for a speaking slot, will be announced on the Commission's website (www.usccr.gov), Twitter (www.twitter.com/USCCRgov), and Facebook page (www.facebook.com/USCCRgov/) in advance of the briefing.

In addition, the Commission welcomes the submission of additional material for consideration as we prepare our report. Please submit such information no later than March 25, 2019 to womeninprison@usccr.gov or OCRE/Public Comments, U.S. Commission on Civil Rights, 1331 Pennsylvania Ave. NW, Suite 1150, Washington, DC 20425.

Women in Prison: Seeking Justice Behind Bars

Introductory Remarks: Chair Catherine E. Lhamon: 9:00 a.m.—9:10 a.m.

Panel One: Overview of Women in Prison: Statistics, Constitutional Protections, Classification, and Family Disruption: 9:10 a.m.—10:40 a.m.

Panel Two: An Analysis of Women's Health, Personal Dignity, and Sexual Abuse in the U.S. Prison System: 10:50 a.m.—12:10 p.m.

Panel Three: Review of Treatment of Women Offenders While Incarcerated: 1:10 p.m.—2:30 p.m.

Panel Four: Rehabilitative Opportunities for Women in Prison & Life After Prison: 2:40 p.m.—4:00 p.m.

Open Public Comment Session: 5:00 p.m.—6:00 p.m. (See SUPPLEMENTARY INFORMATION section above.)

Adjourn: 6:00 p.m.

Schedule is subject to change.

Dated: February 7, 2019.
David Mussatt,
Supervisory Chief, Regional Programs Unit.

[FR Doc. 2019-02086 Filed 2-7-19; 4:15 pm]

BILLING CODE 6335-01-P